DEPARTMENT OF JUSTICE

Notice of Lodging of Consent Decree Under the Comprehensive Environmental Response, Compensation, and Liability Act

Under 28 CFR 50.7, notice is hereby given that on September 26, 2005, a proposed Consent Decree in United States v. FTR, LP, et al., Civil Action No. 04-CV-930 was lodged with the United States District Court for the District of South Carolina, Rock Hill Division.

In this action, brought pursuant to Section 107 of the Comprehensive Environmental Response, Compensation, and Liability Act (“the Act”), 42 U.S.C. 9607, the United States sought reimbursement for response costs incurred by EPA at the Carolina Steel Drum Superfund Site (“Site”) located in Rock Hill, York County, South Carolina against twenty Defendants who, the United States alleges, arranged for disposal of hazardous substances at this Site. Under the decree, the five remaining Defendants in this action—ABB, Inc.; Bullington Family Partnership; Crown Metro Chemicals, Inc.; Eastman Chemical Company; and FTR, LP will make a collective payment of $1,450,000 to resolve their liability for EPA costs incurred to clean up the Site.

The Department of Justice will receive for a period of thirty (30) days from the date of this publication comments relating to the proposed consent decree. Comments should be addressed to the Assistant Attorney General, Environment and Natural Resources Division, P.O. Box 7611, U.S. Department of Justice, Washington, DC 20044-7611, and should refer to United States v. FTR, LP et al., D.J. REF. 90-11-2-07733.

The proposed Consent Decree may be examined at the Office of the United States Attorney, District of South Carolina, 1441 Main Street, Suite 500, Columbia, South Carolina, 29201, and at U.S. EPA Region IV, Atlanta Federal Building, 61 Forsyth Street, Atlanta, Georgia 30303. During the public comment period, the proposed consent decree may also be examined on the following Department of Justice Web site: http://www.usdoj.gov/enrd/open.html. A copy of the proposed consent decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (25 cents per page reproduction cost) payable to the U.S. Treasury.

Ellen M. Mahan,
Assistant Chief, Environmental Enforcement Section, Environment and Natural Resources Division.

[FR Doc. 05-20536 Filed 10-12-05; 8:45 am]

BILLING CODE 4410-15-M